DEPARTMENT OF TRANSPORTATION

Federal Transit Administration

[Docket Number: FTA-2008-0020]

Notice of Availability of Proposed Guidance on New and Small Starts Policies and Procedures

AGENCY: Federal Transit Administration (FTA), DOT.

ACTION: Notice of availability; request for comments.

SUMMARY: This notice announces the availability of the Federal Transit Administration's (FTA) Proposed Guidance on New and Small Starts Policies and Procedures and requests your comments on it. The guidance explains proposed changes to the New and Small Starts programs that will become effective upon the issuance of Final Guidance, which will be announced in a subsequent Federal Register notice. FTA requests comments on the Proposed Guidance, which is available in DOT's electronic docket and on FTA's Web site.

DATES: Comments must be received within 30 days after publication in the Federal Register. Late filed comments will be considered to the extent practicable.

ADDRESSES: You may submit comments [identified by the Docket Number FTA-2008-0020] by any of the following methods:

Web site: http://regulations.gov. Follow the instructions for submitting comments on the DOT electronic docket site.

Fax: 202-493-2251.

Mail: U.S. Department of Transportation, Docket Operations, M-30, West Building Ground Floor, Room W12-140, 1200 New Jersey Ave., SE., Washington, DC 20590.

Hand Delivery: U.S. Department of Transportation, Docket Operations, M-30, West Building Ground Floor, Room W12-140, 1200 New Jersey Ave., SE., Washington, DC 20590, between 9 a.m. and 5 p.m., Monday through Friday, except Federal holidays.

Instructions: You must include the agency name (Federal Transit Administration) and the docket number (FTA-2007-0020). You should submit two copies of your comments if you submit them by mail. If you wish to receive confirmation that FTA received your comments, you must include a self-addressed stamped postcard. Note that all comments received will be posted without change to the federal government Web site located at http://regulations.gov. This means that if your comment includes any personal identifying information, such information will be made available to users of Web site.

FOR FURTHER INFORMATION CONTACT: Ron Fisher, Office of Planning and Environment, telephone (202) 366-4033. FTA is located at 1200 New Jersey Ave., SE., East Building, Washington, DC 20590. Office hours are from 9 a.m. to 5:30 p.m., Monday through Friday, except Federal holidays.

SUPPLEMENTARY INFORMATION:

1. Background

On August 10, 2005, President Bush signed the Safe, Accountable, Flexible, Efficient Transportation Equity Act: A Legacy for Users (SAFETEA-LU). Section 3011 of SAFETEA-LU made a number of changes to 49 U.S.C. 5309, which authorizes the Federal Transit Administration's (FTA) fixed guideway capital investment program known as “New Starts,” and created a new program category known as “Small Starts.” This notice announces the availability of FTA's Proposed Guidance on New and Small Starts Policies and Procedures and requests your comment as described below. The document is available in the docket, which can be accessed by going to http://regulations.gov at any time, or you can view the document on FTA's Web site at http://www.fta.dot.gov/planning/newstarts/planning_environment_5615.html.

A. Proposed Changes for the New and Small Starts Program

The purpose of this policy guidance is to solicit comments on the policies and procedures for the New and Small Starts programs. The changes, once announced as final, will apply to all New and Small Starts submittals received after the effective date announced in the Notice of Availability published in the Federal Register for the Final Guidance. FTA proposes minor changes to its ratings by introducing a rating for reliability, which could affect the project justification rating. FTA proposes this change to honor the spirit of SAFETEA-LU, which established this new criterion for project justification, while refraining from making the more significant changes in SAFETEA-LU that are appropriate for rulemaking. Other changes proposed will support FTA's efforts to streamline studies for projects seeking New and Small Starts funding. They include an initiation package for alternatives analysis, an easing of the eligibility requirements for the Small Starts program, and documentation of the uncertainties in the predictions of capital costs and ridership. It is this last proposed provision that is expected to have the greatest impact on expediting FTA reviews, as a more explicit representation of project uncertainties should facilitate communication between FTA and project sponsors over capital cost and ridership uncertainties. FTA also proposes that its ratings include additional attention to the adequacy of the local financial commitment for ongoing recapitalization of the existing transit system. Finally, FTA proposes to allow review and comment by contractors of information submitted for the Before and After Study so that their roles can be accurately portrayed.

Comments received will be used to develop the ratings, evaluations, and procedures for projects seeking funds from the New and Small Starts programs, and will be issued in June 2008. FTA will respond to comments received in response to this Notice in a second Federal Register notice to be published after the close of the comment period. The notice will announce the availability of the Reporting Instructions for the section 5309 New Starts Criteria and the Interim Guidance for Small Starts, reflecting the changes implemented as a result of this policy guidance and comments received thereon.

Issued in Washington, DC this 9th day April 2008.
James S. Simpson,
Administrator.

[FR Doc. E8-8463 Filed 4-17-08; 8:45 am]

BILLING CODE 4910-57-P